DEPARTMENT OF HEALTH AND HUMAN SERVICES

45 CFR Part 4

Service of Process

AGENCY: Department of Health and Human Services.

ACTION: Final rule.

SUMMARY: This rule amends our regulations, which provide for service of process on the Department of Health and Human Services, the Secretary of Health and Human Services, or other employees of the Department in their official capacities.

The purpose of this amendment is to expand the number of people who can be served process on behalf of the Department.

DATES: Effective Date: August 18, 2008.

FOR FURTHER INFORMATION CONTACT: Jeffrey S. Davis, Associate General Counsel, General Law Division, Office of the General Counsel, (202) 619-0150.

SUPPLEMENTARY INFORMATION:

Background

In 1983, the Department of Health and Human Services published regulations which addressed the method by which the Secretary of Health and Human Services, the Department, and its employees in their official capacities may be served with legal process. The current regulations provide that the service of a summons and complaint on the Department or on any Department official in his official capacity shall be accomplished by regular mail. Service of subpoenas and other process, if not authorized by law to be served by mail, should be hand-delivered to the staff of the correspondence control unit of the Office of the General Counsel. The regulations currently provide that, in the absence of that staff, process should be delivered to any Deputy General Counsel or secretary to any Deputy General Counsel of the Department.

This amendment is designed to make full use of limited personnel resources available to the Immediate Office of the General Counsel when the staff of the General Counsel's Office of Legal Resources (formerly the correspondence control unit) is not available to accept service of process. By expanding those who may accept service of process to either the staff of the Office of Legal Resources within the Office of the General Counsel or to any staff member of or individual assigned to the Immediate Office of the General Counsel in the absence of the Office of Legal Resources staff, resources within the Office of the General Counsel will be channeled more appropriately.

We are also adding a new section to the regulations to address the service of Congressional subpoenas on the Department or the Secretary. Under the amended regulations, the staff in the Office of the Assistant Secretary for Legislation is authorized to accept Congressional subpoenas on behalf of the Department. As the official liaison between the Department and Congress, the Office of the Assistant Secretary for Legislation is best suited to accept service of Congressional subpoenas, coordinate the Department's response to Congressional investigations and prepare witnesses and testimony for Congressional hearings.

Public Participation

This rule is published as a final rule. It is exempt from public comment, pursuant to 5 U.S.C. 553(b)(A) as a rule of “agency organization, procedure, or practice.”

Paperwork Reduction Act

This regulation is not subject to the Paperwork Reduction Act because it deals solely with internal rules governing Department of Health and Human Services personnel.

Cost/Regulatory Analysis

In accordance with Executive Order 12866, the Secretary has determined that this rule will not constitute a “significant regulatory action” as defined in Executive Order 12866 in that it will not have an annual effect on the economy of $100 million or more a year or adversely affect in a material way the economy, productivity, competition, jobs, the environment, public health or safety, or state, local or tribal governments or communities. This rule is therefore not subject to the regulatory impact and analysis requirements of the Order.

This rule will not have a significant economic impact on a substantial number of small entities; therefore, preparation of a regulatory flexibility analysis is not required.

List of Subjects in 45 CFR Part 4

Administrative practice and procedure, Government employees.

Accordingly, for the reasons set forth in the preamble, 45 CFR part 4 is amended as follows:

PART 4—[AMENDED]

1. The authority citation for part 4 continues to read as follows:

Authority: 5 U.S.C. 301, 42 U.S.C. 300aa-11.

2. Revise § 4.2(b) to read as follows:

§ 4.2 Other process directed to the Department or Secretary.

* * * * *

(b) If served by an individual, the process should be delivered to the staff in the Office of Legal Resources, Office of the General Counsel, Room 700E, 200 Independence Avenue, SW., Washington, DC 20201, or in the absence of that staff, to any staff member of or individual assigned to the Immediate Office of the General Counsel, up to and including any Deputy General Counsel.

3. Add § 4.7 to read as follows:

§ 4.7 Congressional subpoenas directed to the Department or Secretary.

Notwithstanding the provisions of §§ 4.1, 4.2, and 4.3, service of Congressional subpoenas shall be delivered to the staff in the Office of the Assistant Secretary for Legislation, Department of Health and Human Services, 200 Independence Avenue, SW., Washington, DC 20201.

Dated: August 11, 2008.
Michael O. Leavitt,
Secretary.

[FR Doc. E8-18917 Filed 8-15-08; 8:45 am]

BILLING CODE 4150-26-P